Presidential Determination No. 2012-04 of January 6, 2012

Presidential Determination on the Eligibility of South Sudan To Receive Defense Articles and Defense Services Under the Foreign Assistance Act of 1961, as Amended, and the Arms Export Control Act, as Amended

Memorandum for the Secretary of State

By the authority vested in me as President by the Constitution and the laws of the United States, including section 503(a) of the Foreign Assistance Act of 1961, as amended, and section 3(a)(1) of the Arms Export Control Act, as amended, I hereby find that the furnishing of defense articles and defense services to the Republic of South Sudan will strengthen the security of the United States and promote world peace.

You are authorized and directed to transmit this determination to the Congress and to arrange for the publication of this determination in the Federal Register.

THE WHITE HOUSE,

Washington, January 6, 2012

[FR Doc. 2012-1545

Filed 1-23-12; 8:45 am]

Billing code 4710-10-P